DEPARTMENT OF ENERGY

Extension of Public Comment Period for the Champlain Hudson Power Express Transmission Line Project Draft Environmental Impact Statement

AGENCY: Department of Energy.

ACTION: Extension of the public comment period.

SUMMARY: The U.S. Department of Energy (DOE) is extending the public comment period for the Champlain Hudson Power Express Transmission Line Project Draft Environmental Impact Statement (DOE/EIS-0447). The Draft EIS evaluates the environmental impacts of DOE's proposed Federal action of issuing a Presidential permit to the Applicant, Champlain Hudson Power Express, Inc. (CHPEI), to construct, operate, maintain, and connect a new electric transmission line across the U.S./Canada border in northeastern New York State.

DATES: The ongoing public comment period which opened on November 1, 2013, will remain open until January 15, 2014, an extension of 30 days.

ADDRESSES: Written comments on the Draft EIS may be provided on the CHPE EIS Web site at http://www.chpexpresseis.org (preferred) or addressed to Mr. Brian Mills, Office of Electricity Delivery and Energy Reliability (OE-20), U.S. Department of Energy, 1000 Independence Avenue SW., Washington, DC 20585; by electronic mail to Brian.Mills@hq.doe.gov; or by facsimile to 202-318-7761.

Availability of the Draft EIS: Copies of the Draft EIS have been distributed to appropriate members of Congress, state and local government officials, American Indian tribal governments, and other Federal agencies, groups, and interested parties. Printed copies of the document may be obtained by contacting Mr. Mills at the above address. Copies of the Draft EIS and supporting documents are also available for inspection at the following locations:

• Queens Library—Steinway, 21-45 31 Street (Ditmars Boulevard), Long Island City, NY 11102

• Yonkers Public Library—Riverfront Library, 1 Larkin Center, Yonkers, New York 10701

• Rose Memorial Library, 79 East Main Street, Stony Point, NY 10980

• Kingston Public Library, 55 Franklin Street, Kingston, NY 12401

• Schenectady County Public Library, 99 Clinton Street, Schenectady, NY 12305

• Crandall Public Library, 251 Glen Street, Glens Falls, NY 12801

• Plattsburgh Public Library, 19 Oak Street, Plattsburgh, NY 12901

The Draft EIS is also available on the EIS Web site at http://chpexpresseis.org and on the DOE NEPA Web site at http://nepa.energy.gov/.

Issued in Washington, DC, on December 11, 2013.
Brian Mills,
NEPA Compliance Officer, Office of Electricity Delivery and Energy Reliability.

[FR Doc. 2013-29789 Filed 12-13-13; 8:45 am]

BILLING CODE 6450-01-P